DEPARTMENT OF THE INTERIOR

National Park Service

[NPS-WASO-CONC-32683; PPWOBSADC0, PPMVSCS1Y.Y00000]

Notice of Intent To Award a Sole-Source Concession Contract for Yellowstone National Park

AGENCY: National Park Service, Interior.

ACTION: Notice of proposed award of a sole-source concession contract for Yellowstone National Park.

SUMMARY: Public notice is hereby given that the National Park Service proposes to award a sole-source concession contract for the conduct of certain visitor services within Yellowstone National Park. The visitor services include food and beverage and retail.

DATES: The term of the sole-source concession contract will commence (if awarded) no earlier than sixty (60) days from the publication of this notice, but the National Park Service intends for the term to begin March 1, 2022 (estimated) and end December 31, 2023.

FOR FURTHER INFORMATION CONTACT: Kurt Rausch, Program Chief, Commercial Services Program, National Park Service, 1849 C Street NW, Mail Stop 2410, Washington, DC 20240; Telephone: 202-513-7156.

SUPPLEMENTARY INFORMATION: Pursuant to 36 CFR 51.25, the Director of the National Park Service (Service) may award a concession contract non-competitively upon a determination that extraordinary circumstances exist under which compelling and equitable considerations require the award of the concession contract to a particular qualified person in the public interest and that such an award is otherwise consistent with the requirements of part 51. Contracts that are awarded non-competitively under this authority are commonly referred to as “sole-source” contracts. The Service has determined that the proposed award of a sole-source contract to DNC Parks and Resorts at Yellowstone, LLC is necessary based on the following information.

The extraordinary circumstances in this instance include delays caused by the COVID-19 pandemic and the required updates to the YELL002 prospectus as a result of the pandemic's socio-economic impacts, as such impacts affected the assumptions developed for the prospectus to such an extent that the Service could not release the prospectus in July 2020 as originally planned. Additionally, the Service has exhausted the time allowed for temporary contracts authorized under 36 CFR 51.24, and does not have sufficient time to update the assumptions and requirements for a new prospectus, solicit and evaluate proposals, provide the 60-day notice to Congress, and competitively award a new contract before the expiration of the temporary contract on February 28, 2022.

The Service has determined that DNC Parks and Resorts at Yellowstone, LLC is a “qualified person” as defined by 36 CFR 51.3, and has determined that compelling and equitable considerations exist as only DNC Parks and Resorts at Yellowstone, LLC, having provided the visitor services since 2002 and having already made the investments necessary to provide the operations, is positioned to provide the visitor services without having potentially severe consequences to visitors to the Park.

The Service has determined that a sole-source concession contract is in the public interest because it is the authorization most likely to avoid interruption of visitor services and provide for the continued maintenance of government-owned facilities.

This is not a request for proposals. The publication of this notice reflects the intent of the Service but does not bind the Service to award the sole-source contract. Should the Service award the sole-source contract, the NPS will ensure such award is otherwise consistent with the requirements of part 51.

Justin Unger,
Associate Director, Business Services.

[FR Doc. 2022-00656 Filed 1-18-22; 8:45 am]

BILLING CODE 4312-53-P